DEPARTMENT OF THE INTERIOR

National Park Service

[NPS-WASO-NRNHL-DTS#-38047; PPWOCRADI0, PCU00RP14.R50000]

National Register of Historic Places; Notification of Pending Nominations and Related Actions

AGENCY: National Park Service, Interior.

ACTION: Notice.

SUMMARY: The National Park Service is soliciting electronic comments on the significance of properties nominated before May 25, 2024, for listing or related actions in the National Register of Historic Places.

DATES: Comments should be submitted electronically by June 20, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 25, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ALABAMA

Houston County

Dupree School, 1116 Antioch Church Road, Ashford, SG100010471

HAWAII

Hawaii County

Mauna Kea Traditional Cultural Property and District, Mauna Kea, Mauna Kea, SG100010485

MARYLAND

Prince George's County

Cheverly Historic District, The district is defined by the first 11 platted sections of the town, roughly bounded by Landover Road to the north, 63rd and 64th Avenues to the east, Reed Street to the south, and Crest Avenue and Tremont Avenue to the west, with houses on both side, Cheverly, SG100010470

MISSISSIPPI

Harrison County

J.W. Randolph School, 315 Clark Avenue, Pass Christian, SG100010472

NEBRASKA

Douglas County

Elkhorn Commercial Historic District, (Lincoln Highway in Nebraska MPS), Four blocks in the original town plat of downtown Elkhorn centered on N. Main and N. 205th Streets, Elkhorn, MP100010478

NEW YORK

Otsego County

House at 120 Balcom Road, 120 Balcom Road, Mount Vernon, SG100010480

Tompkins County

John Creque House, 24 Congress Street, Ulysses, SG100010482

OHIO

Carroll County

Methodist Episcopal Church, 121 West Wood Street, Malvern, SG100010474

Franklin County

Holy Rosary Roman Catholic Church Complex, 1651, 1667 East Main Street, 498 Berkeley Road, and 1640 East Mound Street, Columbus, SG100010473

WISCONSIN

Kewaunee County

TRINIDAD Shipwreck (Schooner), (Great Lakes Shipwreck Sites of Wisconsin MPS), Address Restricted, Algoma, MP100010476

Winnebago County

Johnson, Isabel and Orrin, House, 1002 East Forest Avenue, Neenah, SG100010486

A request for removal has been made for the following resource(s):

NEW YORK

Richmond County

STANDARD OIL COMPANY NO. 16 (harbor tug), 3001 Richmond Terrace, Staten Island, OT01001321

Additional documentation has been received for the following resource(s):

NEW YORK

Columbia County

Philmont Historic District (Additional Documentation), Ark St., Band St., Block St., Canal St., Church St., Columbia Ave., Eagle St., Ellsworth St., Elm St., Garden St., Main St., Maple Ave., Philmont, AD100010025

Nomination(s) submitted by Federal Preservation Officers:

The State Historic Preservation Officer reviewed the following nomination(s) and responded to the Federal Preservation Officer within 45 days of receipt of the nomination(s) and supports listing the properties in the National Register of Historic Places.

A request for removal has been made for the following resource(s):

UTAH

Duchesne County

Simmons Ranch, 8 mi. S of US 40, Fruitland vicinity, OT92000463

Authority: Section 60.13 of 36 CFR part 60.

Sherry A. Frear,
Chief, National Register of Historic Places/National Historic Landmarks Program.

[FR Doc. 2024-12226 Filed 6-3-24; 8:45 am]

BILLING CODE 4312-52-P